DEPARTMENT OF HEALTH AND HUMAN SERVICES

National Institutes of Health

Submission for OMB Review; 30-Day Comment Request: Autism Spectrum Disorder (ASD) Research Portfolio Analysis, NIMH

SUMMARY: Under the provisions of Section 3507(a)(1)(D) of the Paperwork Reduction Act of 1995, the National Institute of Mental Health, the National Institutes of Health, has submitted to the Office of Management and Budget (OMB) a request for review and approval of the information collection listed below. This proposed information collection was previously published in the Federal Register on March 23, 2016, Vol. 81 page 15541 and allowed 60-days for public comment. One public comment was received, requesting a copy of the data collection plans and instruments; the NIMH Office of Autism Research Coordination provided draft copies of the data collection plan and instrument to the requester. The purpose of this notice is to allow an additional 30 days for public comment. The National Institute of Mental Health (NIMH), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30 days of the date of this publication.

FOR FURTHER INFORMATION CONTACT: To obtain a copy of the data collection plans and instruments, or request more information on the proposed project, contact: The Office of Autism Research Coordination, NIMH, NIH, Neuroscience Center, 6001 Executive Blvd., MSC 9663, Room 6184, Bethesda, Maryland 20892. Or you can Email your request, including your address to: iaccpublicinquiries@mail.nih.gov. Formal requests for additional plans and instruments must be requested in writing.

Proposed Collection: NIMH Office of Autism Research Coordination (OARC) Autism Spectrum Disorder (ASD) Research Portfolio Analysis, 0925-0682, Expiration Date 09/30/2016—EXTENSION, National Institute of Mental Health (NIMH), National Institutes of Health (NIH).

Need and Use of Information Collection: The purpose of the ASD portfolio analysis is to collect research funding data from U.S. and international ASD research funders, to assist the Interagency Autism Coordinating Committee (IACC) in fulfilling the requirements of the Combating Autism Act, and to inform the committee and interested stakeholders of the funding landscape and current directions for ASD research. Specifically, these analyses will continue to examine the extent to which current funding and research topics align with the IACC Strategic Plan for ASD Research. The findings will help guide future funding priorities by outlining current gaps and opportunities in ASD research as well as serving to highlight annual activities and research progress.

OMB approval is requested for 3 years. There are no costs to respondents other than their time. The total estimated annualized burden hours are 520.

Estimated Annualized Burden Hours
Type of respondents (funders) | Number of respondents | Number of projects per respondent | Average time per response (in hours) | Total burden hours
U.S. Federal | 22 | 63 | 15/60 | 347
U.S. Private | 8 | 75 | 15/60 | 150
International Government | 4 | 14 | 15/60 | 14
International Private | 4 | 9 | 15/60 | 9

Dated: June 3, 2016.
Melba Rojas,
Project Clearance Liaison, NIMH, NIH.

[FR Doc. 2016-13722 Filed 6-9-16; 8:45 am]

BILLING CODE 4140-01-P